DEPARTMENT OF COMMERCE

Foreign-Trade Zones Board

[Order No. 1441]

Approval of Request for Manufacturing Authority Within Foreign-Trade Zone 40, Lorain County, OH, (Oil Burner Units)

Pursuant to its authority under the Foreign-Trade Zones Act of June 18, 1934, as amended (19 U.S.C. 81a-81u), the Foreign-Trade Zones Board (the Board) adopts the following Order:

Whereas, the Cleveland-Cuyahoga County Port Authority, grantee of Foreign-Trade Zone 40, submitted an application to the Board for manufacturing authority (oil burner units) within FTZ 40 for R.W. Beckett Company (FTZ Docket 9-2005; filed February 22, 2005);

Whereas, notice inviting public comment was given in Federal Register (70 FR 9414, February 28, 2005) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for manufacturing authority for oil burner units within FTZ 40 for R.W. Beckett Company, is approved, subject to the Act and the Board's regulations, including Section 400.28.

Signed at Washington, DC, this 5th day of April 2006.
David M. Spooner,
Assistant Secretary of Commerce for Import Administration. Alternate Chairman, Foreign-Trade Zones Board.
Attest:
Dennis Puccinelli,
Executive Secretary.

[FR Doc. E6-5677 Filed 4-14-06; 8:45 am]

BILLING CODE 3510-DS-S